ENVIRONMENTAL PROTECTION AGENCY

[FRL-7490-9]

Notice of Proposed Administrative Order on Consent Pursuant to Sections 106(a), 107(a) and 122(g) of the Comprehensive Environmental Response, Compensation, and Liability Act (CERCLA), PCB Treatment, Inc. Superfund Site, Kansas City, KS, and Kansas City, MO, Docket No. CERCLA 07-2002-0128

AGENCY: Environmental Protection Agency.

ACTION: Notice of proposed administrative order on consent, PCB Treatment, Inc. Superfund Site, Kansas City, Kansas, and Kansas City, Missouri.

SUMMARY: Notice is hereby given that a proposed administrative order on consent regarding the PCB Treatment Inc. Superfund Site (Site), was signed by the United States Environmental Protection Agency (EPA) on February 4, 2003, and approved by the United States Department of Justice (DOJ) on April 3, 2003.

DATES: EPA will receive comments until June 2, 2003, relating to the proposed agreement.

ADDRESSES: Comments should be addressed to Audrey Asher, Senior Assistant Regional Counsel, United States Environmental Protection Agency, Region VII, 901 North Fifth Street, Kansas City, Kansas 66101 and should refer to the PCB Treatment, Inc. Superfund Site Administrative Order on Consent, Docket No. CERCLA 07-2002-0128.

The proposed agreement may be examined or obtained in person or by mail at the office of the United States Environmental Protection Agency, Region VII, 901 North Fifth Street, Kansas City, KS 66101, (913) 551-7255.

SUPPLEMENTARY INFORMATION: The proposed agreement concerns two facilities, about two miles apart, located in the industrial areas of Kansas City, Kansas at 45 Ewing Street and Kansas City, Missouri at 2100 Wyandotte Street. The facilities were formerly operated by PCB Treatment, Inc., now a defunct corporation. Between 1982 and 1987, PCB Treatment, Inc. and its subsidiaries or affiliates treated and stored PCBs contained in used transformers, capacitors, oil, equipment, and other materials at the Wyandotte facility and the Ewing facility. During its period of operations, spills of PCB-contaminated oil and solvents occurred.

Samples collected at the Site in the late 1990s indicated that the PCB contamination at Ewing Street exceeded 1,790 parts per million (ppm) in the building and 1,450 ppm in the surrounding soils. At Wyandotte Street, the PCB contamination exceeded 23,800 ppm in the building and 800 ppm in the surrounding soils.

Over 1000 parties arranged for disposal of PCB wastes at the Site, but the majority of the PCB contaminated material was sent to the Site by fewer than 15 parties. This settlement is with 11 private parties who contributed a major portion of waste to the Site and 12 Federal parties who collectively contributed a major share. This proposed settlement requires the private party Respondents to perform the removal actions at this Site which is estimated to cost $35,000,000. These costs will be paid by the Respondents, who will be reimbursed by the Federal Respondents for approximately 33% of the costs. In addition, Respondents may be reimbursed for approximately 24% of their costs through disbursements from a Special Account created with funds EPA recovered through de minimis settlements with small volume contributors.

Dated: April 21, 2003.
James B. Gulliford,
Regional Administrator, Region VII.

[FR Doc. 03-10763 Filed 4-30-03; 8:45 am]

BILLING CODE 6560-50-P